DEPARTMENT OF THE INTERIOR

National Park Service

36 CFR Part 7

RIN 1024-AC97

Lake Meredith National Recreation Area, Personal Watercraft Use

AGENCY: National Park Service, Interior.

ACTION: Proposed rule.

SUMMARY: The National Park Service (NPS) is proposing to designate areas where personal watercraft (PWC) may be used in Lake Meredith National Recreation Area, Texas. This proposed rule implements the provisions of the NPS general regulations authorizing a park unit to allow the use of PWC by promulgating a special regulation. The NPS Management Policies 2001 directs individual parks to determine whether PWC use is appropriate for a specific park unit based on an evaluation of that park's enabling legislation, resources and values, other visitor uses, and overall management objectives.

DATES: Comments must be received by February 10, 2004.

ADDRESSES: Comments on the proposed rule should be sent to the Superintendent, Lake Meredith National Recreation Area, P.O. Box 1460, Fritch, TX 79036-1460, Fax: (806) 857-2319, e-mail: LAMR_Superintendent@nps.gov. If you comment by e-mail, please include “PWC rule” in the subject line and your name and return address in the body of your Internet message. Also, you may hand deliver comments to the Superintendent, Lake Meredith National Recreation Area, 419 East Broadway, Fritch, Texas.

For additional information see “Public Participation” under SUPPLEMENTARY INFORMATION below.

FOR FURTHER INFORMATION CONTACT: Judy Shafer, Office of Policy and Regulations, National Park Service, 1849 C Street, NW., Room 7250, Washington, DC 20240. Phone: (202) 208-7068. E-mail: Judy_Shafer@nps.gov.

SUPPLEMENTARY INFORMATION:

Background

Additional Alternatives

This proposed rule would implement portions of the preferred alternative in the Environmental Assessment published March 10, 2003. The public should be aware that two other alternatives were presented in the EA, including a no-PWC alternative, and those alternatives should also be reviewed and considered when making comments on this proposed rule.

Personal Watercraft Regulation

On March 21, 2000, the National Park Service published a regulation (36 CFR 3.24) on the management of personal watercraft (PWC) use within all units of the National Park System (65 FR 15077). This regulation prohibits PWC use in all national park units unless the NPS determines that this type of water-based recreational activity is appropriate for the specific park unit based on the legislation establishing that park, the park's resources and values, other visitor uses of the area, and overall management objectives. The regulation banned PWC use in all park units effective April 20, 2000, except 21 park units. The regulation established a 2-year grace period following the final rule publication to provide these 21 park units time to consider whether PWC use should be allowed.

Description of Lake Meredith National Recreation Area

Lake Meredith National Recreation Area is near Fritch, Texas, in the center of the Texas Panhandle, about 40 miles northeast of Amarillo, Texas. The reservoir was formed in the 1960s when the U.S. Bureau of Reclamation constructed Sanford Dam on the Canadian River. The dam was built to supply water to 11 communities in the Panhandle by means of 322 miles of pipeline. The National Recreation Area consists of about 45,000 acres; the historic average reservoir pool covers about 10,000 acres.

Lake Meredith is a major site of water-based recreation in the Panhandle, averaging more than 1.5 million visits per year from 1992 to 1999. There are no comparable large bodies of water or land that provide such recreational diversity in the Panhandle area. The largest nearby recreation area is Palo Duro Canyon State Park, a beautiful scenic and historic area, but lacks the water resources of Lake Meredith.

The lands and waters of Lake Meredith National Recreation Area support a major sport fishery and contain facilities for camping, picnicking, and boating. Lake Meredith is the only public land in a radius of approximately 50 miles that permits the hunting of deer, quail, ducks, and other migratory birds.

Congress created Lake Meredith National Recreation Area on November 28, 1990. Public Law 101-628 states this National Park System unit is “to provide for public outdoor recreation use and enjoyment of the lands and waters associated with Lake Meredith in the State of Texas, and to protect the scenic, scientific, cultural, and other values contributing to the public enjoyment of such lands and waters” (16 U.S.C. 460eee). By making Lake Meredith part of the National Park System, Congress emphasized the importance of protecting and interpreting the natural and cultural resources of the park. The legislation codified the long-standing administrative arrangements between the Bureau of Reclamation and the NPS.

Purpose of Lake Meredith National Recreation Area

The purpose of the park is addressed in the following statements excerpted from the park's Strategic Plan.

1. Provide for the safe public use, understanding, and enjoyment of the diverse recreational opportunities.

2. Educate the public to instill an understanding and sense of stewardship of the cultural, natural, historic, scenic and recreational resources of the park.

3. Provide opportunities for scientific study of natural and cultural resources.

Significance of Lake Meredith National Recreation Area

The following park resources and values define the significance of Lake Meredith:

1. The impounding of the Canadian River in 1965 created a man-made lake that fulfills outdoor recreational needs such as sport fishing, hunting, boating, horseback riding, hiking, scuba diving, and bird watching for the five-state region of the Texas Panhandle Plains.

2. The Lake, located on the windswept, arid plains of the Texas Panhandle Plains, is the largest body of water within a 200-mile radius and provides the main water source for three-quarters of a million people in 11 cities.

3. The scenic, colorful Canadian River breaks contain the evidence of over 12,000 years of human occupation and use.

4. The lake, wetlands, and High Plains prairie provide premier habitat for migratory waterfowl and endangered species, including but not limited to, bald eagle, Arkansas River shiner, and the state-listed Texas horned lizard.

5. The park protects a portion of the significant High Plains ecosystem, including the imperiled Texas cottonwood/tall grass community.

6. The park contains special geological features, such as “filled chimneys,” agatized Alibates dolomite, and the Canadian River cut, which exposes more than 250 million years of geologic history and divides the High Plains to the north from the Llano Estacado (Staked Plains) to the south.

Authority and Jurisdiction

Under the National Park Service's Organic Act of 1916 (Organic Act) (16 U.S.C. 1 et seq.) Congress granted the NPS broad authority to regulate the use of the Federal areas known as national parks. In addition, the Organic Act (16 U.S.C. 3) allows the NPS, through the Secretary of the Interior, to “make and publish such rules and regulations as he may deem necessary or proper for the use and management of the parks * * *”

16 U.S.C. 1a-1 states, “The authorization of activities shall be conducted in light of the high public value and integrity of the National Park System and shall not be exercised in derogation of the values and purposes for which these various areas have been established * * *”

As with the United States Coast Guard, NPS's regulatory authority over waters subject to the jurisdiction of the United States, including navigable waters and areas within their ordinary reach, is based upon the Property and Commerce Clauses of the U.S. Constitution. In regard to the NPS, Congress in 1976 directed the NPS to “promulgate and enforce regulations concerning boating and other activities on or relating to waters within areas of the National Park System, including waters subject to the jurisdiction of the United States * * *” (16 U.S.C. 1a-2(h)). In 1996 the NPS published a final rule (61 FR 35136, July 5, 1996) amending 36 CFR 1.2(a)(3) to clarify its authority to regulate activities within the National Park System boundaries occurring on waters subject to the jurisdiction of the United States.

PWC Use at Lake Meredith National Recreation Area

All different types of vessels can be found on Lake Meredith on any given day. These vessels include canoes, rowboats, PWC, runabouts, day cruisers, ski boats, sailboats , and houseboats. Activities on the lake associated with boating include sightseeing, water skiing, fishing, hunting, scuba diving, swimming, camping, racing, and sailing. Boaters mainly come from communities in and around the Panhandle, but also from Kansas, Colorado, and New Mexico.

Boaters launch vessels at any of the five developed launch ramps or at other designated primitive launch sites or campground sites, depending on the lake level. Due to sedimentation and low river volume, only rafts and canoes are able to access the river upstream from the lake proper when water levels are high enough. Also a lot of boaters who camp at shoreline campgrounds dock their boats near their campsite.

Vessel and other watercraft use in Lake Meredith have occurred since the reservoir was opened for recreational use in 1965. PWC use began to appear on the lake during the late 1970s, when PWC were first manufactured, and their use has steadily increased. NPS estimates that PWC comprise approximately 20% of the vessels use on Lake Meredith. The primary use season is May through September (estimate 3,500 PWC visitor-days) with the off-season October through March (estimate 575 PWC visitor-days).

Most PWC users gain access to the reservoir from campgrounds and they operate wherever the lake is navigable. They do not commonly operate in the intermittent flowing Canadian River because it is normally too shallow, contains dense vegetation and a heavy load of suspended sediment. Access to streambeds in side canyons of the reservoir is also limited because of dense vegetation and shallow water levels.

Boating Accidents and Violation Notices

When PWC's are involved in accidents there is a potential for greater damage and injury. PWCs are designed for speeds up to seventy miles per hour and for stunt-like maneuvers. Therefore, accidents between PWCs and fixed objects typically result in more serious damage and personal injuries. Industry representatives report that PWC accidents decreased in some states in the late 1990s. The National Transportation Safety Board reported that in 1996 personal watercraft represented 7.5% of state-registered recreational vessels but accounted for 36% of recreational boating accidents (NTSB 1998). From 1997 to 2001, thirteen boating incidents occurred on Lake Meredith. Of the thirteen boating incidents, seven had minor damage and six had extensive damage. During the same time period, there were six incidents involving PWCs. Of the six incidents involving PWCs, five had minor damage and one had extensive damage. Between 1997 and 2001, 41 search and rescue missions were reported for vessels and five search and rescue missions for PWCs.

Boating regulations are enforced by NPS law enforcement staff and Texas Parks and Wildlife Department officers. Between 1997 and 2001, NPS rangers issued 393 written violation notices to all watercraft operators on Lake Meredith, with 271 violations to boats and 122 violations to PWC operators. The majority of violations for vessels were due to failing to pay the recreation fee, violating no-wake zones, towing without an observer, and riding on gunwales or bows.

Resource Protection and Public Use Issues

Lake Meredith National Recreation Area Environmental Assessment

The National Park Service has prepared a draft Environmental Assessment (EA). The EA was available for public review and comment from March 10 to April 9, 2003. During this rule making a copy of the EA will remain on the park's Web site at www.nps.gov/lamr.

The purpose of the environmental assessment was to evaluate a range of alternatives and strategies for the management of PWC use, ensuring the protection of park resources and values, and offering recreational opportunities as provided for in the National Recreation Area's enabling legislation, purpose, mission, and goals. The analysis assumed an alternative would be implemented beginning in 2002 and considered a 10-year use period, from 2002 to 2012.

The Environmental Assessment evaluated three alternatives concerning the use of PWC at Lake Meredith National Recreation Area. Two of the alternatives considered in the Environmental Assessment would permit PWC use in the park under certain conditions. Alternative A allows PWC use under a special regulation that includes certain current provisions of the Superintendent's Compendium. The Superintendent's Compendium is terminology the NPS uses to describe the authority provided to the Superintendent under 36 CFR 1.5 and 1.7. It allows for local, park-specific regulations for a variety of issues and under certain criteria. Alternative A is also the baseline for proposing the impact analysis. However, the economic analysis discussed later in this document uses the no-action alternative as a baseline. The provisions of the Superintendent's Compendium include the following closures: the stilling basin below Sanford Dam, the waters of the Canadian River, and within 750′ of the intake tower. The stilling basin was closed because it is a designated swim beach, while the prohibition on vessels within 750 feet of the intake tower enhances safety and prevents any accidental contamination of the municipal water system. During times of heightened homeland security the park would institute a 75 foot buffer around the Dam structure itself to all vessels. Since this is a sporadic closure, it is not included in the text of the regulatory language. Waters of the Canadian River are typically too low to safely operate a vessel. The launching of boats at areas other than at a designated launch site is also prohibited.

Under alternative B Lake Meredith National Recreation Area would adopt a special regulation that would allow continued PWC operation similar to alternative A, but use would be further restricted to reduce conflicts between fishermen and PWC operators in lake areas and to protect water resources by designating and marking “Flat Wake” zones in a number of the canyons. These lake arms and back coves include: North Turkey Creek, Bugbee Canyon, North Canyon, North Cove, South Canyon, Sexy Canyon, Amphitheater Canyon, the coves between day markers 9 and 11, Fritch Canyon, Short Creek, Evans Canyon and Canal Canyon. In addition, the special regulation would prohibit PWC fueling on the lake except at the marina fuel dock, with an attendant providing the fuel service. PWC fueling by operators would be allowed only when the PWC is out of the water. In addition, the carrying of extra fuel onboard PWC would be prohibited.

In addition to these two alternatives for allowing restricted PWC use, a no-action alternative was considered that would continue the prohibition of all PWC use within the National Recreation Area. All three alternatives were evaluated with respect to PWC impacts on water quality, air quality, soundscapes, wildlife and wildlife habitat, threatened, endangered, or special concern species, shoreline vegetation, visitor experience, visitor conflict and safety, and cultural resources.

Based on the environmental analysis, NPS determined that Alternative B is the park's preferred alternative for managing PWC use. Alternative B is also considered the environmentally preferred alternative because it would best fulfill park responsibilities as steward of this sensitive habitat; ensure safe, healthful, productive, and aesthetically and culturally pleasing surroundings; and attain a wider range of beneficial uses of the environment without degradation, risk to health or safety, or other undesirable and unintended consequences.

This document proposes regulations to implement Alternative B at Lake Meredith National Recreation Area. The NPS will consider the comments received on this proposed rule, as well as the comments received on the Environmental Assessment. The public should review and consider the other alternatives contained in the Environmental Assessment when making comments on this proposed rule. A copy of the Environmental Assessment is available by contacting the Superintendent, Lake Meredith National Recreation Area, P.O. Box 1460, Fritch, Texas, 79036, or by downloading the document from the park's Web site at www.nps.gov/lamr.

The park will begin planning efforts and public outreach for a new General Management Plan in the near future. During that planning process the environmental impacts of vessels other than PWCs will be evaluated. At that time, all vessels will be brought into alignment with regulations for PWCs and rule making proposed where needed for consistency.

The following summarizes the predominant resource protection and public use issues associated with PWC use at Lake Meredith Recreation Area. Each of these issues is analyzed in the Lake Meredith Recreation Area, Personal Watercraft Use Environmental Assessment.

Water Quality

Conventional two-stroke, carbureted engines today power the vast majority of PWC in use, which discharge as much as 30% of their fuel unburned directly into the water. Hydrocarbons, including benzene, toluene, ethyl benzene, and xylene (BTEX) and polyaromatic hydrocarbons (PAHs), are released. These discharges have potential adverse effects on water quality. The issue over two stroke engines operating at Lake Meredith Recreation Area will in time become a non-issue. In 1996, the Environmental Protection Agency (EPA) promulgated a rule to control exhaust emissions from new marine engines, including outboards and PWC. Emission controls provide for increasingly stricter standards beginning in model year 2006 (EPA 1996a). As a result of the rule, the EPA expects a 50% reduction in hydrocarbon emissions from marine engines from present levels by 2020 and a 75% reduction in hydrocarbon emissions by 2025. Impacts from the use of two stroke engines will diminish as this new technology replaces older two stroke engines.

Under this proposed rule PWC use would continue within the reservoir, but flat wake zones would be established in 12 coves and lake arms: North Turkey Creek, Bugbee Canyon, North Canyon, South Canyon, Sexy Canyon, Amphitheater Cove, the coves between day markers 9 and 11, North Cove, Fritch Canyon, Short Creek, Evans Canyon and Canal Canyon. It is assumed that PWC operating in the flat wake zones under this proposal would discharge gasoline and its constituents at one-quarter the rate expected at full throttle in the open-water portion of the lake. For the purpose of evaluating impacts to water quality, it was assumed that the flat wake zones were established in 2002. Area 1 is defined as Lake Meredith minus the flat wake zones and area 2 is defined as the flat wake zones.

Overall numbers and distribution of PWC would remain the same in both 2002 and 2012. In 2012 emission rates for PWC (as well as outboard motorboats) were assumed to decrease by 50%, in accordance with the U.S. Environmental Protection Agency manufacturing requirement. Also, under this proposal the PWC user education program would be enhanced to include materials describing the advantages of the U.S. EPA emission reduction programs and the anticipated benefits to water and air quality.

The environmental analysis determined that impacts from continued PWC use with management restrictions would result in short- and long-term, negligible, adverse effects on water quality based on ecotoxicological and human health benchmarks, similar to the current limits (i.e., use levels before the park closed on November 7, 2002). All threshold volumes needed to dilute PWC emissions in area 2 (the 12 flat wake zones) would be smaller under this proposal than under the current limits because of the additional management restrictions (specific flat wake zones for PWC). Prohibiting PWC fueling on the lake would further reduce the potential for accidental spills and associated impacts on water quality.

The environmental analysis determined that cumulative impacts in 2002 from PWC and motorboat use would range from negligible to moderate under this proposal. Impacts from benzene in 2002 would be moderate in area 1 and minor in area 2. Focused water quality monitoring would be needed immediately following a high-use day to confirm these impact estimates. By 2012 all threshold volumes would be substantially reduced as a result of improved emission controls and park instituted flat wake zones and PWC user education program. All cumulative impacts based on ecotoxicological and human health benchmarks would be negligible. (For an explanation of terms such as “negligible” and “adverse,” see page 66 of the Environmental Assessment.) Therefore, this proposal would not result in an impairment of water resources.

Air Quality

PWC emit various compounds that pollute the air. In the two-stroke engines commonly used in PWC, the lubricating oil is used once and is expelled as part of the exhaust; and the combustion process results in emissions of air pollutants such as volatile organic compounds (VOC), nitrogen oxides (NOX), particulate matter (PM), and carbon monoxide (CO). PWC also emit fuel components such as benzene that are known to cause adverse health effects. Even though PWC engine exhaust is usually routed below the waterline, a portion of the exhaust gases go into the air. These air pollutants may adversely impact park visitor and employee health, as well as sensitive park resources.

For example, in the presence of sunlight VOC and NOX emissions combine to form ozone. Ozone causes respiratory problems in humans, including cough, airway irritation, and chest pain during inhalation. Ozone is also toxic to sensitive species of vegetation. It causes visible foliar injury, decreases plant growth, and increases plant susceptibility to insects and disease. Carbon monoxide can affect humans as well. It interferes with the oxygen carrying capacity of blood, resulting in lack of oxygen to tissues. NOX and PM emissions associated with PWC use can also degrade visibility. NOX can also contribute to acid deposition effects on plants, water, and soil. However, because emission estimates show that NOX from PWC are minimal (less than 5 tons per year), acid deposition effects attributable to PWC use are expected to be minimal.

Continuing PWC use at Lake Meredith would result in minor adverse impacts from CO and negligible impacts from VOC, PM10, and NOX, in 2002 and 2012, although emissions would be reduced slightly compared to the current circumstances.

Cumulative emission levels in 2002 and 2012 would be moderate for CO and negligible for PM10 and NOX. Emission levels for VOC would be minor in 2002, decreasing to negligible in 2012 as a result of improved engine technology. Overall, PWC emissions of HC and VOC are estimated to be 25% to 38% of the cumulative boating emissions in 2002 and would be reduced to below 20% by 2012 with technology improvements. Therefore, this proposal would not result in an impairment of air quality.

Under this proposal there would be a negligible impact on visibility from PWC in both 2002 and 2012 and a minor adverse impact from ozone exposure in 2002 and 2012.

On a cumulative basis there would be negligible impact levels on visibility from all motorized watercraft in both 2002 and 2012, although PM2.5 emissions would be reduced slightly. The impact level on ozone exposure in 2002 and 2012 is expected to remain moderate. Ozone monitoring data indicate that Lake Meredith is influenced by the transport of ozone and its precursor pollutants from south and east Texas. This proposal would not impair air quality related values.

Soundscapes

Noise impacts from PWC use are caused by a number of factors. Noise from human sources, including PWC, can intrude on natural soundscapes, masking the natural sounds that are an intrinsic part of the environment. This can be especially true in quiet places, such as in secluded lakes, coves, river corridors, and backwater areas. Also, PWC use in areas where there are nonmotorized users (such as canoeists, sailors, people fishing or picnicking, and kayakers) can disrupt the “passive” experience of park resources and values.

The biggest difference between noise from PWC and that from motorboats is that the former repeatedly leave the water, which magnifies noise in two ways. Without the muffling effect of water, the engine noise is typically 15 dBA louder and the smacking of the craft against the water surface results in a loud “whoop” or series of them. With the rapid maneuvering and frequent speed changes, the impeller has no constant “throughput” and no consistent load on the engine. Consequently, the engine speed rises and falls, resulting in a variable pitch. This constantly changing noise is often perceived as more disturbing than the constant noise from motorboats.

PWC users tend to operate close to shore, to operate in confined areas, and to travel in groups, making noise more noticeable to other recreationists. Motorboats traveling back and forth in one area at open throttle or spinning around in small inlets also generate complaints about noise levels; however, most motorboats tend to operate away from shore and to navigate in a straight line, thus being less noticeable to other recreationists.

The environmental analysis determined that impacts from noise from PWC use would have temporary, minor, adverse impacts at most locations at Lake Meredith Recreation Area over the short and long term. However, there would be beneficial impacts on the back coves where flat wake restrictions would be in effect under this proposed rule. Impact levels would be related to the number of PWC operators, as well as the sensitivity of other visitors. Over the long term PWC noise levels would be reduced with the introduction of newer engine technologies.

Cumulative noise impacts from PWC and motorboat use, as well as other visitor activities, would be temporary, minor, and adverse over the short and long term, with these sounds heard occasionally throughout the day. Under this proposed rule there will be a beneficial impact on the back coves since these areas would be designated as flat wake zones. For the most part, natural sounds would still predominate at most locations within the recreation area. The highest concentration of sound impacts would occur near the boat launches and marinas. Therefore, this proposal would not impair soundscapes.

Wildlife and Wildlife Habitat

This proposed rule intends to protect birds and waterfowl from the effects of PWC-generated noise, especially during nesting seasons, protect fish and wildlife species and their habitat from PWC disturbances, and protect fish and wildlife from the adverse effects of bioaccumulation of contaminants from PWC emissions.

Under this proposal there would be a reduction in overall impacts caused by PWC use because of flat wake zones and water quality would be improved due to PWC fueling restrictions on the lake. Impacts on wildlife and wildlife habitat would be short term, negligible, and adverse at most locations. All Texas and federal watercraft laws and regulations apply to PWC operators, including regulations that address reckless or negligent operation, excessive speed, hazardous wakes or washes, hours of operation, age of operator, access to the shore at flat wake speeds, distance between vessels and prohibition on operating a vessel at greater than flat wake speed less than 50 feet from the shoreline. The park enforces Texas Parks and Wildlife Department regulations through 36 CFR 3.1 and the park's concurrent jurisdiction authority. The designation of flat wake zones will restrict vessel speeds in the back coves and lake arms, which will have beneficial impact to species in back coves and lake arms. There are an estimated 60 species of mammals that occur in the Lake Meredith National Recreation Area. Common mammals include mule deer, coyote, porcupines, raccoons, foxes, squirrels, rabbits, a few bats, and several varieties of rats and mice. Larger predators include mountain lions and bobcats. Over 200 species of birds are present including wild turkey, bobwhite, scaled quail, mourning dove, roadrunner, great blue herons and red-winged blackbird. The most common of the 15 species of fish present include walleye, catfish, largemouth and sand bass, crappie, bluegill and carp. Eleven amphibian species and 32 reptile species are also found at Lake Meredith including two poisonous snakes (prairie rattlesnake and diamondback rattlesnake). Since these are generally land mammals, little wildlife uses the open water, where PWC speeds are higher.

On a cumulative basis, all visitor activities would continue to have short-term, negligible to minor, adverse effects on wildlife and wildlife habitat. All wildlife impacts would be temporary. Therefore, this proposed regulation would not impair wildlife or wildlife habitat.

Threatened, Endangered, or Special Concern Species

This proposed regulation aims to protect threatened or endangered species, or species of special concern, and their habitats from PWC disturbances. The Endangered Species Act (16 U.S.C 1531 et seq.) mandates that all federal agencies consider the potential effects of their actions on species listed as threatened or endangered. If the National Park Service determines that an action may adversely affect a federally listed species, consultation with the U.S. Fish and Wildlife Service is required to ensure that the action will not jeopardize the species' continued existence or result in the destruction or adverse modification of critical habitat. State and federally listed species were identified through discussions with park staff, informal consultation with the U.S. Fish and Wildlife Service, and project review by the Texas Parks and Wildlife Department. The U.S. Fish and Wildlife Service was contacted regarding federal threatened, endangered, and special concern species, as was the Texas Parks and Wildlife Department regarding state species. At Lake Meredith National Recreation Area it has been determined that none of the alternatives would adversely affect any of the listed species. However, the species at Lake Meredith that have the potential to be affected by proposed PWC management alternatives include the federally listed bald eagle and the Arkansas River shiner.

Continued, restricted PWC use at Lake Meredith National Recreation Area would have no impact on endangered, threatened or sensitive species. Bald Eagles are present only in the winter season when PWCs are generally not in use. Additionally, there is no known summer nesting of Bald Eagles in the park. There is designated critical habitat for the Arkansas River shiner within park boundaries in the Canadian River however, the map identifying critical habitat area is likely to change. (As part of a recent court decision, the U.S. Fish and Wildlife Service agreed to jettison its policy outlining a habitat area for the minnow and draft a new one.) The park is proposing to close that section of the river to protect this critical habitat. Therefore, there would be no perceptible changes in concerned species' populations or their habitat community structure. All impacts on these species and habitat due to PWC use would be temporary and short term. The intensity and duration of impacts are expected to remain constant over the next 10 years, since PWC numbers are anticipated to remain steady. Also, cumulative effects from all park visitor activities would not likely adversely affect these species since the identified species are not present or are not accessible during the course of normal visitor activities on Lake Meredith.

Therefore, this proposal would not result in an impairment of threatened, endangered, or special concern species.

Shoreline Vegetation

Wind and wave action erodes areas along the steeper to more moderately inclined shorelines and a sometimes cause landslides that slip into the reservoir. Vegetation is relatively sparse below the historic high water level within the steeper to moderately inclined slopes. Recent growth is present in the more shallow backwater areas with less, or relatively flat, relief. These shallow areas are frequently filled with dense vegetation growth including invasive species; they are occasionally inundated killing off adjacent disturbed day land and shallow water plants. Vegetation upon slopes offers little resistance to land or mudslides and erosion by waves and erosion is accelerated as a result of fluctuating water levels.

PWC use would have negligible adverse impacts over the short and long term because there would be no perceptible changes to plant community size, integrity or continuity now or in the future. The proposed PWC flat wake restrictions in back coves would result in beneficial impacts to shoreline vegetation from reduced wave action/erosion.

On a cumulative basis other visitor activities are more prevalent than PWC use. However, no obvious impacts currently exist, and impacts to shoreline vegetation would continue to be negligible. There would be no perceptible changes to plant community size, integrity, or continuity now or in the future. Therefore, this proposal would not impair shoreline vegetation.

Visitor Experience

In proposing this regulation for Lake Meredith, NPS aims to ease potential conflicts between PWC users and other park visitors.

To determine impacts, the current level of PWC use was calculated for areas of the recreation area. Other recreational activities and visitor experiences that are occurring in these locations were also identified. Visitor surveys and staff observations were evaluated to determine visitor attitudes and satisfaction in areas where PWC are used. Visitor survey data gathered at Lake Meredith National Recreation Area before the closure took effect suggests that the majority of visitors are satisfied with their current experiences. The potential for change in visitor experience was evaluated by identifying projected increases or decreases in both PWC and other visitor uses, and determining whether these projected changes would affect the desired visitor experience and result in greater safety concerns or additional user conflicts.

Under this proposed rule flat wake zones would be established and marked with buoys in lake arms and back coves (North Turkey Creek, Bugbee Canyon, North Canyon, North Cove, South Canyon, Sexy Canyon, Amphitheater Cove, the coves between day markers 9 and 11, Fritch Canyon, Short Creek, Evans Canyon and Canal Canyon), and visitor education would be enhanced. PWC operators would be prohibited from fueling on the lake (except at the marina fuel dock) and from carrying extra fuel onboard. A map of the lake will be developed to identify these flat-wake zones and launching of vessels would be permitted at areas with designated concrete vessel ramps (Cedar Canyon Launch Ramp, Fritch Fortress Launch Ramp, Harbor Bay Launch Ramp, Blue West Launch Ramp, and Sanford-Yake Marina) and designated camping areas and primitive areas. Primitive or undeveloped launch sites may be opened or closed depending on lake levels. Maps will be posted at the park, on the park's web site, and informational pamphlets would be made available to the public.

Impacts on PWC Users. Flat wake restrictions established under this proposed rule would be limited only to the arms of the lake and back coves. Other flat wake restriction are imposed by 36 CFR part 3 and the Texas Water Safety Act . The State of Texas prohibits other than flat wake speeds within 50 feet of another PWC, vessel, platform, person, object or shoreline. Because PWC operators often prefer large bodies of open water, these restrictions would have a negligible adverse effect on PWC users. Fueling watercraft away from the water surface would result in a minor inconvenience.

Impacts on Other Boaters. Impacts to other boaters would be similar to those under the previous circumstance because restrictions under this proposed rule would not affect areas or hours of operation or the number of users permitted on the lake. However, anglers who fish from boats would experience a beneficial impact due to PWC flat wake restrictions in lake arms and coves, as would canoeists and kayakers who may prefer these areas. Impacts to other boaters would continue to be negligible to minor, long term, and adverse.

Impacts on Other Visitors. Impacts to other shoreline users would be similar to those under the current management. Other visitors, particularly swimmers, might notice a beneficial impact due to PWC operators refueling their watercraft out of the water and away from the shoreline. Anglers, particularly those who fish in back coves or from shorelines where such fishing is permitted, would experience beneficial impacts due to PWC speed and flat wake restrictions. Other visitors would continue to experience negligible to minor adverse impacts.

When related to other visitor activities, PWC use would not appreciably limit the visitor experience. Cumulative impacts would be moderate for PWC users but negligible over the short and long term for most other visitors because there would be little noticeable change in visitor experiences.

Visitor Conflict and Safety

Under the proposed rule Lake Meredith aims to minimize or reduce the potential for PWC user accidents, minimize or reduce the potential for safety conflicts between PWC users and other water recreationists, and provide a safe and healthful environment for park visitors.

Between 1997 and 2001 Lake Meredith park staff issued 122 written violation notices to PWC users, conducted 5 search-and-rescue operations for PWC, and towed 12 disabled PWC. In the same time period six PWC-related accidents occurred, although the only PWC-related injury recorded by park staff happened when one operator attempted to jump-start another craft. Proactive boat patrols in the past five years have resulted in increased safety—prior to 1997, there were two water-related deaths at the park every year for 30 years (although the types of watercraft involved were not documented). NPS rangers and Texas Parks and Wildlife Department officers enforce boating regulations. The Coast Guard Auxiliary also helps with boat patrols. NPS law enforcement staff focus 75% of their time on land activities and 25% on water activities.

PWC speeds, wakes, and operations near other users can pose hazards and conflicts, especially to canoeists and kayakers. Sailboaters are the primary nonmotorized vessels used in the national recreation area, and conflicts could occur with PWC. To date, few conflicts have been reported between PWC and nonmotorized boaters.

Under this proposed rule flat wake zones would be established in lake arms and back coves, and PWC user education would be enhanced.

PWC User/Swimmer Conflicts. Impacts would be similar to the current situation since the number of PWC operating within the recreation area is expected to remain constant. Flat wake zones in lake arms could have a beneficial impact on swimmers, since many popular swimming locations occur in such areas. Enhanced PWC education could benefit all visitors by decreasing the potential for conflicts. Overall, PWC use would continue to have negligible to minor adverse impacts on most swimmers at Lake Meredith National Recreation Area.

PWC Users/Other Vessel Conflicts. Impacts would be similar to previous conditions. Flat wake zones would benefit nonmotorized vessels and anglers who fish from boats. Therefore, PWC use would continue to have minor adverse impacts on other motorized boaters and negligible adverse impacts to nonmotorized vessels at Lake Meredith.

PWC Users/Other Visitor Conflicts. Establishing flat wake zones in back coves will benefit anglers who have complained about speed violations in these areas. Even though Texas boating regulations require flat wake speeds within 50 feet of the shoreline, some PWC users could be unaware of the regulations. Enhanced PWC education under this alternative would help remedy this situation. PWC use would have negligible adverse impacts to other visitors.

Continued PWC use would have short- and long-term, minor, adverse impacts on visitor conflicts and safety due to the number of visitors and boats present on high use days. Establishing flat wake zones in back coves could benefit anglers who have complained about conflicts with PWC in these areas.

Cumulative impacts related to visitor conflicts and safety would be minor for all user groups in the short and long term.

Cultural Resources

This proposed regulation aims to control PWC use and access to protect cultural resources, including sacred sites important to Native Americans. Archeological sites are common in Lake Meredith National Recreation Area. A shoreline survey was completed in 1981, and 44 prehistoric and 8 historic sites were located between the high and low waterlines. Sites along the shoreline are most threatened by natural erosion due to fluctuating reservoir water levels and wind-driven wave action. Wave action from vessels and PWC is a minor problem compared to wind-driven waves that hit the shoreline. In recent years, there have been no reports of people taking artifacts from shoreline sites.

Uncontrolled access to cultural sites remains a problem at Lake Meredith. Both PWC users and boaters can access sites along and near the shoreline. The park does not have sufficient staff to enforce regulations throughout the year.

Native American sacred sites that are listed on, or may be eligible for listing on, the National Register of Historic Places may be affected by erosion along shorelines, or by uncontrolled visitor access since riders are able to access areas less accessible to most motorcraft. Previous consultations were held with Native American tribes concerning the exposure of human remains found eroding from the lakeshore.

PWC use within the recreation area could have minor adverse impacts on archeological sites and submerged cultural resources from possible illegal collection and vandalism. However, under this proposal a user education program and flat wake zone could limit these effects. Cumulative impacts on archeological and submerged cultural resources that are readily accessible would be minor to moderately adverse. Therefore this proposal would not impair any archeological or submerged cultural resources.

PWC-related intrusions during the use of ethnographic resources would result in short-term, minor to moderate adverse impacts. The introduction of a user education program and the expansion of flat wake zones could further limit some of these effects. Over the long term PWC noise levels could be reduced as a result of newer engine technologies.

On a cumulative basis all visitor activities could result in minor to moderate adverse impacts on those resources that are readily accessible, due to possible short-term interruptions in their use. All impacts would continue at existing levels.

This alternative would not impair any ethnographic resources.

The Proposed Rule

As established by the April 2000 National Park Service rule (36 CFR 3.24), PWC use is prohibited in all National Park System areas unless determined appropriate. The process used to identify appropriate PWC use at Lake Meredith National Recreation Area considered the known and potential effects of PWC on park natural resources, traditional uses, public health and safety. The proposed rule is designed to manage PWC use within the National Recreation Area in a manner that achieves the legislated purposes for which the park was established including providing reasonable access to the park by PWC.

NPS proposes that PWCs continue to be allowed on Lake Meredith as they have been throughout the history of the lake. Under the special regulation in 36 CFR 7.57 pertaining to Lake Meredith National Recreation Area, PWC use would continue under the same conditions that existed prior to the closure in November 2002. The following areas will be closed to all boating: the stilling basin below Sanford Dam and within 750′ feet of the intake tower (as mandated by Bureau of Reclamation for safety reasons) and the waters of the Canadian River (because of low water levels and wildlife habitat). Also, operating a vessel in excess of 5 mph or creating a wake is prohibited in all marked “Flat Wake” areas on the lake. Launching of vessels is permitted only at designated concrete vessel ramps and designated camping and primitive areas that also provide other types of designated launch areas. All nonconflicting Texas and federal watercraft laws and regulations would apply to PWC operators, excessive speed, hazardous wakes or washes, hours of operation, age of driver, and distance between vessels.

In addition to the previous provisions, the most significant change NPS proposes is to establish and mark with buoys flat wake zones in twelve lake arms and back coves. This modification is in response to complaints from fishermen in the park that PWCs have disrupted their fishing in some of the back coves of the lake. The objective of this proposal is to reduce or eliminate the PWC/fishermen conflict by reducing PWC speeds in these back coves. Because of the extensive fluctuation in water levels in the reservoir, the NPS proposes to place “flat wake” or similarly marked buoys in the water to delineate the areas where all vessels must travel at flat wake speeds within those coves identified in this proposed rule. However, should water levels drop significantly, some coves may not be accessible at all and the buoys would be removed for safekeeping until the water level(s) return to a depth that would sustain safe vessel use. At that time the buoys would be returned to the water and flat wake speed use would again be authorized.

The following would be adopted if this regulation is implemented:

1. Twelve lake arms and back coves on the lake are designated as flat-wake zones. A map of the lake would be developed to identify these flat-wake zones, and they would be clearly marked with buoys when water levels support safe vessel use. Maps would be posted at the park, on the park's web site and informational pamphlets would be made available to the public.

2. Enhance PWC user education through interpretive talks, onsite bulletins, and brochures for PWC registrants and visitors who rent personal watercraft.

3. Educate PWC users about the advantages of using watercraft with cleaner burning engines.

4. Require PWC fueling by operators onshore and out of the water. PWC fueling could continue to occur on the lake at the marina fuel dock, with an attendant providing the fuel service.

5. Prohibit carrying of extra fuel on personal watercraft.

6. Continue to monitor water quality on Lake Meredith through testing services available from other agencies.

7. Launching of PWCs would be limited to designated launch sites including concrete vessel ramps and other types of designated launch sites.

Compliance With Other Laws

Regulatory Planning and Review (Executive Order 12866)

This document is not a significant rule and has not been reviewed by the Office of Management and Budget under Executive Order 12866.

(1) This rule will not have an effect of $100 million or more on the economy. It will not adversely affect in a material way the economy, productivity, competition, jobs, the environment, public health or safety, or State, local, or tribal governments or communities. The National Park Service has completed the report “Economic Analysis of Personal Watercraft Regulations in Lake Meredith National Recreation Area” (LAW Engineering and Environmental Sciences, Inc.) dated September 2002.

(2) This rule will not create a serious inconsistency or otherwise interfere with an action taken or planned by another agency. Actions taken under this rule will not interfere with other agencies or local government plans, policies or controls. This rule is an agency specific rule.

(3) This rule does not alter the budgetary effects of entitlements, grants, user fees, or loan programs or the rights or obligations of their recipients. This rule will have no effects on entitlements, grants, user fees, or loan programs or the rights or obligations of their recipients. No grants or other forms of monetary supplements are involved.

(4) This rule does not raise novel legal or policy issues. This rule is one of the special regulations being issued for managing PWC use in National Park Units. The National Park Service published general regulations (36 CFR 3.24) in March 2000, requiring individual park areas to adopt special regulations to authorize PWC use. The implementation of the requirement of the general regulation continues to generate interest from the public concerning the overall effect of authorizing PWC use and National Park Service policy and park management but is not a significant controversy for this park.

Regulatory Flexibility Act

The Department of the Interior certifies that this rulemaking will not have a significant economic effect on a substantial number of small entities under the Regulatory Flexibility Act (5 U.S.C. 601 et seq.). This certification is based on a report entitled “Economic Analysis of Personal Watercraft Regulations in Lake Meredith National Recreation Area” (LAW Engineering and Environmental Services, Inc. September 2002). The focus of this study was to document the impact of this rule on ten PWC related businesses in the vicinity of Lake Meredith that may be affected by any restriction of PWC use, including PWC dealerships, a PWC rental shop, and convenience stores offering PWC storage and other boating related services. This report found that the potential loss for these businesses as a result of this rule would be minimal, as PWC users account for a very small fraction of economic activity in the region.

Small Business Regulatory Enforcement Fairness Act (SBREFA)

This rule is not a major rule under 5 U.S.C. 804(2), the Small Business Regulatory Enforcement Fairness Act. This proposed rule:

a. Does not have an annual effect on the economy of $100 million or more.

b. Will not cause a major increase in costs or prices for consumers, individual industries, Federal, State, or local government agencies, or geographic regions.

c. Does not have significant adverse effects on competition, employment, investment, productivity, innovation, or the ability of U.S.-based enterprises to compete with foreign-based enterprises.

Unfunded Mandates Reform Act

This rule does not impose an unfunded mandate on State, local, or tribal governments or the private sector of more than $100 million per year. The rule does not have a significant or unique effect on State, local or tribal governments or the private sector. This rule is an agency specific rule and does not impose any other requirements on other agencies, governments, or the private sector.

Takings (Executive Order 12630)

In accordance with Executive Order 12630, the rule does not have significant takings implications. A taking implication assessment is not required. No taking of personal property will occur as a result of this rule.

Federalism (Executive Order 13132)

In accordance with Executive Order 13132, the rule does not have sufficient federalism implications to warrant the preparation of a Federalism Assessment. This proposed rule only affects use of NPS administered lands and waters. It has no outside effects on other areas by allowing PWC use in specific areas of the park.

Civil Justice Reform (Executive Order 12988)

In accordance with Executive Order 12988, the Office of the Solicitor has determined that this rule does not unduly burden the judicial system and meets the requirements of sections 3(a) and 3(b)(2) of the Order.

Paperwork Reduction Act

This regulation does not require an information collection from 10 or more parties and a submission under the Paperwork Reduction Act is not required. An OMB Form 83-I is not required.

National Environmental Policy Act

The National Park Service has analyzed this rule in accordance with the criteria of the National Environmental Policy Act and has prepared an Environmental Assessment (EA). The EA was available for public review and comment March 10 to April 9, 2003. The EA will continue to be available at the park's office and on the park's Web site— http://www.nps.gov/lamr. A copy of the EA is available by contacting the Superintendent, Lake Meredith National Recreation Area, P.O. Box 1460, Fritch, TX 79036, or by downloading it from the Internet at http://www.nps.gov/lamr.

Government-to-Government Relationship With Tribes

In accordance with the President's memorandum of April 29, 1994, “Government to Government Relations with Native American Tribal Governments” (59 FR 22951) and 512 DM 2 have evaluated potential effects on federally recognized Indian tribes and have determined that there are no potential effects.

During the consultation process in late 2002, the NPS consulted with the tribes that claim some affiliation with Lake Meredith National Recreation Area, in writing about the development of this proposed rule and the supporting Environmental Assessment. Those Tribes include the Wichita and Affiliated Tribes; Kiowa Indian Tribe of Oklahoma; Comanche Indian Tribe, Oklahoma; Cheyenne-Arapaho Tribe, Oklahoma; Caddo Indian Tribe of Oklahoma; Jicarilla Apache Tribe, NM; Mescalero Apache Tribe, NM; Apache Tribe of Oklahoma; and, the Fort Sill Apache Tribe of Oklahoma. To date no comments have been received from any of the Native American Tribes.

Clarity of Rule

Executive Order 12866 requires each agency to write regulations that are easy to understand. We invite your comments on how to make this rule easier to understand, including answers to questions such as the following: (1) Are the requirements in the rule clearly stated? (2) Does the rule contain technical language or jargon that interferes with its clarity? (3) Does the format of the rule (grouping and order of sections, use of headings, paragraphing, etc.) aid or reduce its clarity? (4) Would the rule be easier to read if it were divided into more (but shorter) sections? (A “section” appears in bold type and is preceded by the symbol “§ ” and a numbered heading; for example § 7.57 Lake Meredith National Recreation Area. (5) Is the description of the rule in the SUPPLEMENTARY INFORMATION section of the preamble helpful in understanding the proposed rule? What else could we do to make the rule easier to understand?

Send a copy of any comments that concern how we could make this rule easier to understand to: Office of Regulatory Affairs, Department of the Interior, Room 7229, 1849 C Street, NW., Washington, DC 20240. You may also email the comments to this address: Exsec@ios.doi.gov.

Drafting Information: The primary authors of this regulation are: Bill Briggs, Chief Ranger; Jim Rancier, Chief of Resource Management; Paul Eubank, Environmental Protection Specialist; Sarah Bransom, Environmental Quality Division; and Judy Shafer, Office of Policy and Regulations.

Public Participation

If you wish to comment, you may submit your comments by any one of several methods. You may mail comments to the Superintendent, Lake Meredith National Recreation Area, P.O. Box 1460, Fritch, Texas 79036. You may also comment via the Internet to LAMR_Superintendent@nps.gov. Please also include “PWC Rule” in the subject line and your name and return address in the body of your Internet message. Finally, you may hand deliver comments to the Superintendent, Lake Meredith National Recreation Area, 419 East Broadway, Fritch, Texas 79036-1460.

Our practice is to make comments, including names and addresses of respondents, available for public review during regular business hours. Individual respondents may request that we withhold their home address from the rulemaking record, which we will honor to the extent allowable by law. If you wish us to withhold your name and/or address, you must state this prominently at the beginning of your comment. However, we will not consider anonymous comments. We will make all submissions from organizations or businesses, and from individuals identifying themselves as representatives or officials or organizations or businesses, available for public inspection in their entirety.

List of Subjects in 36 CFR Part 7

National Parks, Reporting and recordkeeping requirements.

In consideration of the foregoing, the National Park Service proposes to amend 36 CFR part 7 as follows:

PART 7—SPECIAL REGULATIONS, AREAS OF THE NATIONAL PARK SYSTEM

1. The authority citation for part 7 continues to read as follows:

Authority: 16 U.S.C. 1, 3, 9a, 460(q), 462(k); Sec. 7.96 also issued under DC Code 8-137(1981) and DC Code 40-721 (1981).

2. Section 7.57 is amended by revising the section heading and adding paragraph (h) to read as follows:

§ 7.57 Lake Meredith National Recreation Area.

* * * * *

(h) Personal watercraft (PWC). (1) PWC may operate on Lake Meredith except in the following closed areas: stilling basin below Sanford Dam, within 750 feet of the Sanford Dam intake tower, and on the waters of the Canadian River.

(2) PWC may operate on Lake Meredith under the following conditions:

(i) Fueling of PWC is prohibited on the lake, except at the marina fuel dock with an attendant providing the fuel service, or onshore and out of the water.

(ii) Carrying of fuel in an external or portable container onboard a PWC is prohibited.

(iii) PWC may only be launched at designated launch sites established by the Superintendent in accordance with 36 CFR 1.5 and 1.7.

(iv) PWC may not operate at greater than flat wake speed in the following designated areas: North Turkey Creek, Bugbee Canyon, North Canyon, North Cove, South Canyon, Sexy Canyon, Amphitheater Canyon, the coves between day markers 9 and 11, Fritch Canyon, Short Creek, Evans Canyon and Canal Canyon. Flat wake areas are designated by buoys marked with “flat wake” or other similar markings. The location of those buoys may be adjusted by the Superintendent based on reservoir water levels.

(3) The Superintendent may temporarily limit, restrict or terminate access to the areas designated for PWC use after taking into consideration public health and safety, natural and cultural resource protection, and other management activities and objectives.

Dated: November 28, 2003.
Craig Manson,
Assistant Secretary for Fish and Wildlife and Parks.

[FR Doc. 03-30556 Filed 12-11-03; 8:45 am]

BILLING CODE 4310-3A-P